FEDERAL MARITIME COMMISSION

Ocean Transportation Intermediary License; Correction

In the Federal Register Notice published November 15, 2001 (66 FR 57467-57468), Notice of Ocean Transportation Intermediary License Revocations, incorrectly noticed revocation of license number 2581F, issued to Unitrans International Corporation of Inglewood, CA 90301. The notice is corrected to read:

License Number: 2581F.

Name: Unitrans International Corporation (S.F.).

Address: 461 Littlefield Ave., South San Francisco, CA 94080.

Date Revoked: July 30, 2001.

Reason: Surrendered License Voluntarily.

Licensee Unitrans International Corporation, License Number 1989F, address 709 S. Hindry Avenue, Inglewood, CA 90301 remains duly licensed by the Federal Maritime Commission with a branch office located at 461 Littlefield Avenue, South San Francisco, CA 94080.

Dated: December 11, 2001.
Sandra L. Kusumoto,
Director, Bureau of Consumer Complaints and Licensing.

[FR Doc. 01-30942 Filed 12-14-01; 8:45 am]

BILLING CODE 6730-01-P